DEPARTMENT OF COMMERCE

International Trade Administration

[A-403-801, C-403-802]

Fresh and Chilled Atlantic Salmon From Norway: Revocation of Antidumping and Countervailing Duty Orders

AGENCY: Import Administration, International Trade Administration, Department of Commerce.

SUMMARY: As a result of the determinations by the International Trade Commission (the “ITC”) that revocation of the antidumping duty (“AD”) and countervailing duty (“CVD”) orders on fresh and chilled Atlantic salmon (“salmon”) from Norway would not be likely to lead to the continuation or recurrence of material injury to an industry in the United States, the Department of Commerce (the “Department”) is revoking these AD and CVD orders.

DATES: Effective Date: February 13, 2011.

FOR FURTHER INFORMATION CONTACT: Eric Greynolds, AD/CVD Operations, Import Administration, International Trade Administration, U.S. Department of Commerce, 14th Street and Constitution Avenue NW., Washington, DC 20230; telephone: (202) 482-6071.

SUPPLEMENTARY INFORMATION:

Background

On January 3, 2011, the Department initiated and the ITC instituted sunset reviews of the AD and CVD orders on salmon from Norway, pursuant to sections 751(c) and 752 of the Tariff Act of 1930, as amended (the “Act”), respectively. See Initiation of Five-Year (“Sunset”) Review, 76 FR 89 (January 3, 2011); Fresh and Chilled Atlantic Salmon From Norway, 76 FR 166 (January 3, 2011). As a result of its reviews, the Department found that revocation of the AD order would likely lead to continuation or recurrence of dumping and that revocation of the CVD order would likely lead to continuation or recurrence of countervailable subsidization, and notified the ITC of the margins of dumping and the subsidy rates likely to prevail were the orders revoked. See Fresh and Chilled Atlantic Salmon From Norway: Final Results of Full Third Sunset Review of Antidumping Duty Order, 76 FR 70409 (November 14, 2011), and Fresh and Chilled Atlantic Salmon From Norway: Final Results of Full Third Sunset Review of Countervailing Duty Order, 76 FR 70411 (November 14, 2011).

On February 23, 2012, the ITC published its determination, pursuant to section 751(c) of the Act, that revocation of the AD and CVD orders on salmon from Norway would not be likely to lead to the continuation or recurrence of material injury within a reasonably foreseeable time. See Fresh and Chilled Atlantic Salmon from Norway, 77 FR 10772 (February 23, 2012) and USITC Publication 4303 (February 2012), entitled Fresh and Chilled Atlantic Salmon from Norway (Inv. Nos. 701-TA-302 and 731-TA-454 (Third Review)).

Scope of the Orders

The product covered by the orders is the species Atlantic salmon (Salmo Salar) marketed as specified herein; the order excludes all other species of salmon: Danube salmon, Chinook (also called “king” or “quinnat”), Coho (“silver”), Sockeye (“redfish” or “blueback”), Humpback (“pink”) and Chum (“dog”).¹ Atlantic salmon is a whole or nearly-whole fish, typically (but not necessarily) marketed gutted, bled, and cleaned, with the head on. The subject merchandise is typically packed in fresh-water ice (“chilled”). Excluded from the subject merchandise are fillets, steaks and other cuts of Atlantic salmon. Also excluded are frozen, canned, smoked or otherwise processed Atlantic salmon. Atlantic salmon is currently provided for under Harmonized Tariff Schedule of the United States (“HTSUS”) subheadings 0302.12.0003 and 0302.12.0004.

¹ On August 5, 2009, the Department made a final scope ruling determining that whole salmon steaks are within the scope of the order. See Notice of Scope Rulings, 75 FR 14138 (March 24, 2010).

The HTSUS subheadings are provided for convenience and customs purposes. The written description remains dispositive as to the scope of the product coverage.

Determination

As a result of the determinations by the ITC that revocation of these AD and CVD orders would not be likely to lead to continuation or recurrence of material injury to an industry in the United States, pursuant to section 751(d)(2) of the Act, the Department is revoking the AD and CVD orders on salmon from Norway. Pursuant to section 751(d)(2) of the Act and 19 CFR 351.222(i)(2)(i), the effective date of revocation is February 13, 2011 (i.e., the fifth anniversary of the effective date of publication in the Federal Register of the continuation of these orders).²

² See Continuation of Antidumping and Countervailing Duty Orders: Fresh and Chilled Atlantic Salmon from Norway, 71 FR 7512 (February 13, 2006).

The Department will notify U.S. Customs and Border Protection, 15 days after publication of this notice, to terminate suspension of liquidation and collection of cash deposits on entries of the subject merchandise, entered or withdrawn from warehouse, on or after February 13, 2011. Entries of subject merchandise prior to the effective date of revocation will continue to be subject to suspension of liquidation and antidumping and/or countervailing duty deposit requirements.

This notice also serves as the only reminder to parties subject to administrative protective order (“APO”) of their responsibility concerning the return/destruction or conversion to judicial protective order of proprietary information disclosed under APO in accordance with 19 CFR 351.305(a)(3). Failure to comply is a violation of the APO which may be subject to sanctions.

These five-year (sunset) reviews and notice are in accordance with section 751(d)(2) of the Act and published pursuant to section 777(i)(1) of the Act.

Dated: February 24, 2012.
Ronald K. Lorentzen,
Acting Assistant Secretary for Import Administration.

[FR Doc. 2012-5024 Filed 3-1-12; 8:45 am]

BILLING CODE 3510-DS-P